DEPARTMENT OF ENERGY

Federal Energy Regulatory Commission

Combined Notice of Filings

Take notice that the Commission has received the following Natural Gas Pipeline Rate and Refund Report filings:

Filings Instituting Proceedings

Docket Number: PR17-64-000.

Applicants: Boardwalk Texas Intrastate, LLC.

Description: Tariff filing per 284.123(b)(2),(g): Petition for Rate Approval Under Optional Notice Procedures to be effective 10/1/2017; Filing Type: 1320.

Filed Date: 9/29/17.

Accession Number: 201709295085.

Comments Due: 5 p.m. ET 10/20/17.

284.123(g) Protests Due: 5 p.m. ET 11/28/17.

Docket Number: PR17-65-000.

Applicants: NorthWestern Corporation.

Description: Tariff filing per 284.123(b),(e)/: Revised Rate Schedules for Transportation and Storage Service (D2016.9.68) to be effective 9/1/2017; Filing Type: 980.

Filed Date: 9/29/17.

Accession Number: 201709295234.

Comments/Protests Due: 5 p.m. ET 10/20/17.

Docket Numbers: RP17-1094-000.

Applicants: Elba Express Company, L.L.C.

Description: § 4(d) Rate Filing: Interim Update of Fuel Retention Rates to be effective 11/1/2017.

Filed Date: 9/28/17.

Accession Number: 20170928-5048.

Comments Due: 5 p.m. ET 10/10/17.

Docket Numbers: RP17-1095-000.

Applicants: Northern Natural Gas Company.

Description: § 4(d) Rate Filing: 20170929 Housekeeping Filing to be effective 11/1/2017.

Filed Date: 9/28/17.

Accession Number: 20170928-5073.

Comments Due: 5 p.m. ET 10/10/17.

Docket Numbers: RP17-1096-000.

Applicants: Northern Natural Gas Company.

Description: § 4(d) Rate Filing: 20170928 Negotiated Rate to be effective 11/1/2017.

Filed Date: 9/28/17.

Accession Number: 20170928-5075.

Comments Due: 5 p.m. ET 10/10/17.

Docket Numbers: RP17-1097-000.

Applicants: Young Gas Storage Company, Ltd.

Description: Annual Operational Purchases and Sales Report of Young Gas Storage Company, Ltd.

Filed Date: 9/28/17.

Accession Number: 20170928-5078.

Comments Due: 5 p.m. ET 10/10/17.

Docket Numbers: RP17-1098-000.

Applicants: Wyoming Interstate Company, L.L.C.

Description: Annual Operational Purchases and Sales Report of Wyoming Interstate Company, L.L.C.

Filed Date: 9/28/17.

Accession Number: 20170928-5079.

Comments Due: 5 p.m. ET 10/10/17.

Docket Numbers: RP17-1099-000.

Applicants: Tennessee Gas Pipeline Company, L.L.C.

Description: § 4(d) Rate Filing: Triad Project—Recourse Rate Filing to be effective 11/1/2017.

Filed Date: 9/28/17.

Accession Number: 20170928-5086.

Comments Due: 5 p.m. ET 10/10/17.

Docket Numbers: RP17-1100-000.

Applicants: Transcontinental Gas Pipe Line Company.

Description: Tariff Cancellation: Termination of Maiden Lateral Surcharge 2017 to be effective11/1/2017.

Filed Date: 9/28/17.

Accession Number: 20170928-5088.

Comments Due: 5 p.m. ET 10/10/17.

Docket Numbers: RP17-1101-000.

Applicants: Texas Gas Transmission, LLC.

Description: § 4(d) Rate Filing: Cap Rel Neg Rate Agmts (REGas 35433, 34955 to BP 36625, 36626) to be effective 10/1/2017.

Filed Date: 9/28/17.

Accession Number: 20170928-5093.

Comments Due: 5 p.m. ET 10/10/17.

Docket Numbers: RP17-1102-000.

Applicants: El Paso Natural Gas Company, L.L.C.

Description: § 4(d) Rate Filing: Negotiated Rate Agreement Update (APS Oct 2017) to be effective 10/1/2017.

Filed Date: 9/28/17.

Accession Number: 20170928-5106.

Comments Due: 5 p.m. ET 10/10/17.

Docket Numbers: RP17-1103-000.

Applicants: Transcontinental Gas Pipe Line Company.

Description: § 4(d) Rate Filing: Virginia Soutside Expansion Project II Initial Rates to be effective 11/1/2017.

Filed Date: 9/28/17.

Accession Number: 20170928-5135.

Comments Due: 5 p.m. ET 10/10/17.

Docket Numbers: RP17-1104-000.

Applicants: Maritimes & Northeast Pipeline, L.L.C.

Description: § 4(d) Rate Filing: MNUS FRQ 2017 Filing to be effective11/1/2017.

Filed Date: 9/28/17.

Accession Number: 20170928-5136.

Comments Due: 5 p.m. ET 10/10/17.

Docket Numbers: RP17-1105-000.

Applicants: Transcontinental Gas Pipe Line Company.

Description: § 4(d) Rate Filing: 2017 LNG Fuel Tracker Filing to be effective 11/1/2017.

Filed Date: 9/28/17.

Accession Number: 20170928-5149.

Comments Due: 5 p.m. ET 10/10/17.

Docket Numbers: RP17-1106-000.

Applicants: Texas Eastern Transmission, LP.

Description: Compliance filing Implementation of True-Up Settlement Filing.

Filed Date: 9/28/17.

Accession Number: 20170928-5164.

Comments Due: 5 p.m. ET 10/10/17.

Docket Numbers: RP17-1107-000.

Applicants: Guardian Pipeline, L.L.C.

Description: § 4(d) Rate Filing: EPCR Semi-Annual Adjustment—Fall 2017 to be effective 11/1/2017.

Filed Date: 9/29/17.

Accession Number: 20170929-5003.

Comments Due: 5 p.m. ET 10/11/17.

Docket Numbers: RP17-1108-000.

Applicants: Southwest Gas Storage Company.

Description: § 4(d) Rate Filing: Fuel Filing on 9-29-17 to be effective11/1/2017.

Filed Date: 9/29/17.

Accession Number: 20170929-5012.

Comments Due: 5 p.m. ET 10/11/17.

Docket Numbers: RP17-1109-000.

Applicants: Trunkline Gas Company, LLC.

Description: § 4(d) Rate Filing: Fuel Filing on 9-29-17 to be effective11/1/2017.

Filed Date: 9/29/17.

Accession Number: 20170929-5027.

Comments Due: 5 p.m. ET 10/11/17.

Docket Numbers: RP17-1110-000.

Applicants: Guardian Pipeline, L.L.C.

Description: § 4(d) Rate Filing: Transporter Use Gas Annual Adjustment—Fall 2017 to be effective 11/1/2017.

Filed Date: 9/29/17.

Accession Number: 20170929-5032.

Comments Due: 5 p.m. ET 10/11/17.

Docket Numbers: RP17-1111-000.

Applicants: Panhandle Eastern Pipe Line Company, LP.

Description: § 4(d) Rate Filing: Fuel Filing on 9-29-17 to be effective11/1/2017.

Filed Date: 9/29/17.

Accession Number: 20170929-5036.

Comments Due: 5 p.m. ET 10/11/17.

Docket Numbers: RP17-1112-000.

Applicants: Florida Gas Transmission Company, LLC.

Description: § 4(d) Rate Filing: Negotiated Rates Filing on 9-29-17 to be effective 10/1/2017.

Filed Date: 9/29/17.

Accession Number: 20170929-5058.

Comments Due: 5 p.m. ET 10/11/17.

Docket Numbers: RP17-1113-000.

Applicants: ANR Pipeline Company.

Description: § 4(d) Rate Filing: ANR Antero Neg Rate Amendment to be effective 10/1/2017.

Filed Date: 9/29/17.

Accession Number: 20170929-5071.

Comments Due: 5 p.m. ET 10/11/17.

Docket Numbers: RP17-1114-000.

Applicants: ANR Pipeline Company.

Description: § 4(d) Rate Filing: Collierville Non-Conforming Agreement to be effective 11/1/2017.

Filed Date: 9/29/17.

Accession Number: 20170929-5072.

Comments Due: 5 p.m. ET 10/11/17.

Docket Numbers: RP17-1115-000.

Applicants: Southern Star Central Gas Pipeline, Inc.

Description: § 4(d) Rate Filing: Vol. 2 Neg. and Non-Conf. Flexible PLS—Tenaska October Amendment to be effective 10/1/2017.

Filed Date: 9/29/17.

Accession Number: 20170929-5086.

Comments Due: 5 p.m. ET 10/11/17.

Docket Numbers: RP17-1116-000.

Applicants: Columbia Gulf Transmission, LLC.

Description: § 4(d) Rate Filing: Negotiated & Non-Conforming Service Agreements—RXP to be effective11/1/2017.

Filed Date: 9/29/17.

Accession Number: 20170929-5087.

Comments Due: 5 p.m. ET 10/11/17.

Docket Numbers: RP17-1117-000.

Applicants: Equitrans, L.P.

Description: § 4(d) Rate Filing: Negotiated Rate Service Agreements—Arsenal to be effective 10/1/2017.

Filed Date: 9/29/17.

Accession Number: 20170929-5093.

Comments Due: 5 p.m. ET 10/11/17.

Docket Numbers: RP17-1118-000.

Applicants: Tennessee Gas Pipeline Company, L.L.C.

Description: § 4(d) Rate Filing: Pipeline Safety and Greenhouse Gas Cost Adjustment Mechanism—2017 to be effective 11/1/2017.

Filed Date: 9/29/17.

Accession Number: 20170929-5095.

Comments Due: 5 p.m. ET 10/11/17.

Docket Numbers: RP17-1119-000.

Applicants: Cheniere Creole Trail Pipeline, L.P.

Description: Transportation Retainage Adjustment Informational Filing of Cheniere Creole Trail Pipeline, L.P.

Filed Date: 9/29/17.

Accession Number: 20170929-5097.

Comments Due: 5 p.m. ET 10/11/17.

Docket Numbers: RP17-1120-000.

Applicants: Tennessee Gas Pipeline Company, L.L.C.

Description: § 4(d) Rate Filing: Volume No. 2—Connecticut Expansion Project to be effective 11/1/2017.

Filed Date: 9/29/17.

Accession Number: 20170929-5117.

Comments Due: 5 p.m. ET 10/11/17.

Docket Numbers: RP17-1121-000.

Applicants: Alliance Pipeline L.P.

Description: § 4(d) Rate Filing: Fuel Requirement November 2017 to be effective 11/1/2017.

Filed Date: 9/29/17.

Accession Number: 20170929-5123.

Comments Due: 5 p.m. ET 10/11/17.

Docket Numbers: RP17-1122-000.

Applicants: Cimarron River Pipeline, LLC.

Description: § 4(d) Rate Filing: Fuel Tracker 2017—Winter Season Rates to be effective 11/1/2017.

Filed Date: 9/29/17.

Accession Number: 20170929-5126.

Comments Due: 5 p.m. ET 10/11/17.

Docket Numbers: RP17-1123-000.

Applicants: National Fuel Gas Supply Corporation.

Description: § 4(d) Rate Filing: GT&C Section 42 Tracker Filing to be effective 11/1/2017.

Filed Date: 9/29/17.

Accession Number: 20170929-5127.

Comments Due: 5 p.m. ET 10/11/17.

Docket Numbers: RP17-1124-000.

Applicants: Texas Gas Transmission, LLC.

Description: § 4(d) Rate Filing: 2017 Fuel Tracker Filing to be effective11/1/2017.

Filed Date: 9/29/17.

Accession Number: 20170929-5130.

Comments Due: 5 p.m. ET 10/11/17.

Docket Numbers: RP17-1125-000.

Applicants: WBI Energy Transmission, Inc.

Description: Annual Penalty Revenue Credit Report of WBI Energy Transmission, Inc.

Filed Date: 9/29/17.

Accession Number: 20170929-5152.

Comments Due: 5 p.m. ET 10/11/17.

Docket Numbers: RP17-1126-000.

Applicants: Gulf South Pipeline Company, LP.

Description: § 4(d) Rate Filing: Cap Rel Neg Rate Agmt (Atlanta 8438 to various eff 10-1-17) to be effective10/1/2017.

Filed Date: 9/29/17.

Accession Number: 20170929-5156.

Comments Due: 5 p.m. ET 10/11/17.

Docket Numbers: RP17-1127-000.

Applicants: Gulf South Pipeline Company, LP.

Description: § 4(d) Rate Filing: Cap Rel Neg Rate Agmt (Petrohawk 41455 to Texla 48549) to be effective 10/1/2017.

Filed Date: 9/29/17.

Accession Number: 20170929-5157.

Comments Due: 5 p.m. ET 10/11/17.

Docket Numbers: RP17-1128-000.

Applicants: Dominion Energy Transmission, Inc.

Description: § 4(d) Rate Filing: DETI—New Market (CP14-497) Transportation Service & Negotiated Rate Agreements to be effective 11/1/2017.

Filed Date: 9/29/17.

Accession Number: 20170929-5183.

Comments Due: 5 p.m. ET 10/11/17.

Docket Numbers: RP17-1129-000.

Applicants: Northern Natural Gas Company.

Description: § 4(d) Rate Filing: 20170929 Negotiated Rate to be effective 10/1/2017.

Filed Date: 9/29/17.

Accession Number: 20170929-5196.

Comments Due: 5 p.m. ET 10/11/17.

Docket Numbers: RP17-1130-000.

Applicants: Dominion Energy Transmission, Inc.

Description: § 4(d) Rate Filing: DETI—2017 Annual EPCA to be effective11/1/2017.

Filed Date: 9/29/17.

Accession Number: 20170929-5198.

Comments Due: 5 p.m. ET 10/11/17.

Docket Numbers: RP17-1131-000.

Applicants: Tennessee Gas Pipeline Company, L.L.C.

Description: § 4(d) Rate Filing: Connecticut Expansion Project—Recourse Rate Filing to be effective11/1/2017.

Filed Date: 9/29/17.

Accession Number: 20170929-5206.

Comments Due: 5 p.m. ET 10/11/17.

Docket Numbers: RP17-1132-000.

Applicants: Dominion Energy Transmission, Inc.

Description: § 4(d) Rate Filing: DETI—2017 Annual TCRA to be effective11/1/2017.

Filed Date: 9/29/17.

Accession Number: 20170929-5208.

Comments Due: 5 p.m. ET 10/11/17.

Docket Numbers: RP17-1133-000.

Applicants: Texas Eastern Transmission, LP.

Description: § 4(d) Rate Filing: Permanent Release—Talen 910663 to NJR 911437 to be effective 10/1/2017.

Filed Date: 9/29/17.

Accession Number: 20170929-5233.

Comments Due: 5 p.m. ET 10/11/17.

Docket Numbers: RP17-1134-000.

Applicants: Alliance Pipeline L.P.

Description: § 4(d) Rate Filing: Creditworthiness Update to be effective 11/1/2017.

Filed Date: 9/29/17.

Accession Number: 20170929-5235.

Comments Due: 5 p.m. ET 10/11/17.

Docket Numbers: RP17-1135-000.

Applicants: Transcontinental Gas Pipe Line Company.

Description: § 4(d) Rate Filing: Non-Conforming—MarketLink_NJR to be effective 10/1/2017.

Filed Date: 9/29/17.

Accession Number: 20170929-5245.

Comments Due: 5 p.m. ET 10/11/17.

Docket Numbers: RP17-1136-000.

Applicants: Transcontinental Gas Pipe Line Company.

Description: § 4(d) Rate Filing: Update List of Non-Conforming Service Agreements (MktLink_PPL to NJR) to be effective 10/1/2017.

Filed Date: 9/29/17.

Accession Number: 20170929-5258.

Comments Due: 5 p.m. ET 10/11/17.

Docket Numbers: RP17-1137-000.

Applicants: Texas Eastern Transmission, LP.

Description: § 4(d) Rate Filing: Lebanon Extension Negotiated Rates—Gulfport/Hamilton to be effective11/1/2017.

Filed Date: 9/29/17.

Accession Number: 20170929-5262.

Comments Due: 5 p.m. ET 10/11/17.

Docket Numbers: RP17-1138-000.

Applicants: Texas Gas Transmission, LLC.

Description: § 4(d) Rate Filing: Early Termination/Modification of Serv Agmts and New Neg Rate Agmts to be effective 11/1/2017.

Filed Date: 9/29/17.

Accession Number: 20170929-5263.

Comments Due: 5 p.m. ET 10/11/17.

Docket Numbers: RP17-1139-000.

Applicants: Algonquin Gas Transmission, LLC.

Description: § 4(d) Rate Filing: NRA—Permanent Release from Cargill to Macquarie 511007 to be effective10/1/2017.

Filed Date: 9/29/17.

Accession Number: 20170929-5293.

Comments Due: 5 p.m. ET 10/11/17.

Docket Numbers: RP17-1140-000.

Applicants: Transcontinental Gas Pipe Line Company.

Description: § 4(d) Rate Filing: Negotiated Rates—Cherokee AGL—Replacement Shippers—Oct 2017 to be effective 10/1/2017.

Filed Date: 9/29/17.

Accession Number: 20170929-5292.

Comments Due: 5 p.m. ET 10/11/17.

Docket Numbers: RP17-1141-000.

Applicants: ConocoPhillips Company.

Description: Petition of ConocoPhillips Company For Limited Waiver And Request For Expedited Action And Shortened Comment Period.

Filed Date: 9/29/17.

Accession Number: 20170929-5305.

Comments Due: 5 p.m. ET 10/6/17.

Docket Numbers: RP17-598-001.

Applicants: Great Lakes Gas Transmission Limited Par.

Description: Compliance filing Compliance to RP17-598 to be effective 10/1/2017.

Filed Date: 9/29/17.

Accession Number: 20170929-5116.

Comments Due: 5 p.m. ET 10/11/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2017.
Nathaniel J. Davis, Sr.,
Deputy Secretary.

[FR Doc. 2017-21677 Filed 10-6-17; 8:45 am]

BILLING CODE 6717-01-P